DEPARTMENT OF AGRICULTURE

Forest Service

Information Collection; Request for Comments; Annual Wildfire Summary Report

AGENCY: Forest Service, USDA.

ACTION: Notice.

SUMMARY: In accordance with the Paperwork Reduction Act of 1995, the Forest Service announces its intention to reinstate a previously approved information collection with a change. Two forms are authorized under OMB number 0596-0025: FS-3100-8, Annual Wildfire Summary Report, for which OMB authorization expired April 30, 1996, and FS-3200-6, Cooperative Forestry Accomplishment Report, for which authorization expired October 31, 1999. The agency requests reinstatement of FS-3100-8 and will retire FS-3200-6.

The information collected using FS-3100-8, Annual Wildfire Summary Report, will enable the Forest Service to provide timely, substantive information to Congress about the effectiveness of State and local fire fighting agencies, when the agency requests annual funding for the Forest Service State and Private Forestry Cooperative Fire Program. This Program supplements the funding of State and local fire fighting efforts.

State fire marshals will use FS-3100-8 to collect information from their State and local fire agencies in response to a request for this information from the Forest Service.

DATES: Comments must be received in writing on or before August 21, 2000.

ADDRESSES: All comments should be addressed to Roger Condie, State and Private Forestry Deputy Area, Forest Service, USDA, P.O. Box 96090, Washington, D.C. 20090-6090.

Comments also may be submitted via facsimile to (202) 205-1174 or by email to: rcondie@fs.fed.us.

The public may inspect comments received at the Office of the Deputy Chief, State and Private Forestry, Forest Service, USDA, 2nd Floor NW, Yates Building, 201 14th Street S.W., Washington D.C. Visitors are urged to call ahead to facilitate entrance into the building.

FOR FURTHER INFORMATION CONTACT: Roger Condie, State and Private Forestry, 202-205-1037.

SUPPLEMENTARY INFORMATION:

Background

The Cooperative Forestry Assistance Act of 1978 (16 U.S.C. 2101 (note) Sec. 10) requires the Forest Service to collect information about wildfire suppression efforts by State and local fire fighting agencies in order to support specific congressional funding requests for the Forest Service State and Private Forestry Cooperative Fire Program. The Program provides supplemental funding for State and local fire fighting agencies. The Forest Service works cooperatively with State and local fire fighting agencies to support their fire suppression efforts.

State and local fire agencies, such as the Volunteer Fire Assistance Program, are the first line of defense against fires that might spread to National Forest System lands.

State fire marshals use FS-3100-8, Annual Wildfire Summary Report, to collect this information for the Forest Service. The Forest Service is requesting authorization to reinstate this form under OMB number 0596-0025. This form expired April 30, 1996.

A second form was authorized under OMB number 0596-0025; the form, FS-3200-6, Cooperative Forestry and Accomplishment Report, expired October 31, 1999. This form is no longer used and the Forest Service will retire FS-3200-6.

The Forest Service would be unable to assess the effectiveness of the State and Private Forestry Cooperative Fire Program if the information using FS-3100-8 were not collected.

Description of Information Collection

The following describes the information collection to be reinstated with change:

Title: FS-3100-8, Annual Wildfire Summary Report.

OMB Number: 0596-0025.

Date of Expiration: April 30, 1996.

Type of Request: Reinstatement of an information collection, with change, that was previously approved by the Office of Management and Budget.

Abstract: Forest Service State and Private Forestry Cooperative Fire Program managers will evaluate the collected information to determine if the Cooperative Fire Program funds, provided to the State and local fire fighting agencies by the Forest Service, have been used by State and local fire agencies to improve their fire suppression capabilities. The Forest Service will share the results of the data with Congress when requesting annual funding for the Program. The collected information also will enable the Forest Service to share with the public the importance and value of the State and Private Forestry Cooperative Fire Program.

Forest Service employees will not collect the information directly, but will request the information from State fire marshals, who will collect the information through their own State fire fighting agencies, as well as from local fire fighting agencies, such as Volunteer Fire Departments. The information collected for the Annual Wildfire Summary Report will include the number of fires to which the State or local fire fighting agencies responded within the fiscal year; the types of fires, such as timber, structural, or grassland fires to which the fire fighters will have responded; the sizes of the fires in acres; the causes of the fires, such as lightening, campfire, or arson; and the costs associated with suppressing the fires.

Data gathered in this information collection are not available from other sources.

Estimate of Annual Burden: 30 minutes.

Type of Respondents: State fire marshals.

Estimated Annual Number of Respondents: 50.

Estimated Annual Number of Responses per Respondent: 1.

Estimated Total Annual Burden on Respondents: 25 hours.

Comment Is Invited

The agency invites comments on the following: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including names and addresses when provided, will become a matter of public record. Comments will be summarized and included in the request for Office of Management and Budget approval.

Dated: June 14, 2000.
Robin L. Thompson,
Associate Deputy Chief, State and Private Forestry.

[FR Doc. 00-15628 Filed 6-20-00; 8:45 am]

BILLING CODE 3410-11-U